MERIT SYSTEMS PROTECTION BOARD

Public Availability of the Merit Systems Protection Board's FY 2010 Service Contract Inventory

AGENCY: Merit Systems Protection Board.

ACTION: Notice.

SUMMARY: The Merit Systems Protection Board (MSPB) is publishing this notice to advise the public of the availability of its FY 2010 Service Contract Inventory as required by Section 743 of Division C of the Consolidated Appropriations Act of 2010 (Pub. L. 111-117). This inventory provides information on service contract actions over $25,000 awarded in FY 2010. The inventory was developed in accordance with guidance issued on November 5, 2010 by the Office of Management and Budget's Office of Federal Procurement Policy (OFPP). The OFPP's guidance is available at: http://www.whitehouse.gov/sites/default/files/omb/procurement/memo/service-contract-inventories-guidance-11052010.pdf. The MSPB's inventory is posted on its Web site at http://www.mspb.gov/contact/contracting.htm.

FOR FURTHER INFORMATION CONTACT: Veronica Bullock, Merit Systems Protection Board, Office of Financial and Administrative Management, 1615 M Street, NW., Washington, DC 20419; telephone 202-254-4406; e-mail veronica.bullock@mspb.gov.

William D. Spencer,
Clerk of the Board.

[FR Doc. 2011-17976 Filed 7-15-11; 8:45 am]

BILLING CODE 7400-01-P